DEPARTMENT OF LABOR

Employment and Training Administration

[TA-W-65,620]

Foamade Industries, Inc.; Auburn Hills, MI; Notice of Termination of Investigation

Pursuant to Section 221 of the Trade Act of 1974, as amended, an investigation was initiated on March 17, 2009 in response to a petition filed by company officials on behalf of workers at Foamade Industries, Inc., Auburn Hills, Michigan.

The petitioners have requested that the petition be withdrawn. Consequently, the investigation has been terminated.

Signed at Washington, DC this 1st day of April 2009.
Richard Church,
Certifying Officer, Division of Trade Adjustment Assistance.

[FR Doc. E9-10387 Filed 5-5-09; 8:45 am]

BILLING CODE 4510-FN-P